DEPARTMENT OF THE INTERIOR

Bureau of Safety and Environmental Enforcement

30 CFR Part 250

[Docket ID: BSEE-2025-0003; EEEE500000 256E1700D2 ET1SF0000.EAQ000]

RIN 1014-AA64

Remove Regulations for Sulphur Operations

AGENCY: Bureau of Safety and Environmental Enforcement (BSEE), Interior.

ACTION: Direct final rule; request for comments.

SUMMARY: The Department of the Interior (DOI or Department), through the Bureau of Safety and Environmental Enforcement (BSEE), is rescinding the majority of the provisions in its sulphur operations subpart and revising the subpart by applying other available regulatory requirements for similar operations to sulphur operations in the Outer Continental Shelf (OCS). The existing regulations are outdated, duplicative of, or inconsistent with, other Department regulations. This direct final rule provides consistency and clarity to industry regarding regulatory requirements for sulphur operations by aligning the requirements with the Department's other BSEE-administered regulations.

DATES: The final rule is effective September 30, 2025, unless significant adverse comments are received by September 2, 2025. If significant adverse comments are received, notice will be published in the Federal Register before the effective date either withdrawing the rule or issuing a new final rule that responds to significant adverse comments.

ADDRESSES: You may submit comments on this rulemaking by any of the following methods. Please use the Regulation Identifier Number (RIN) 1014-AA64 as an identifier in your message.

• Federal eRulemaking Portal: http://www.regulations.gov. In the entry entitled, Enter Keyword or ID, enter BSEE-2025-0003, then click search. Follow the instructions to submit public comments and view supporting and related materials available for this rulemaking. BSEE may post all comments submitted.

• Mail or hand-carry comments to the Department of the Interior; Bureau of Safety and Environmental Enforcement; Attention: Regulations and Standards Branch; 45600 Woodland Road, Sterling, Virginia 20166. Please reference “Remove Regulations for Sulphur Operations at 30 CFR part 250, Subpart P, 1014-AA64” in your comments and include your name and return address.

• Send comments on the information collection in this rule to: Interior Desk Officer 1014-AA64, Office of Management and Budget; by fax at 202-395-5806; or by email at oira_submission@omb.eop.gov. In addition, please send a copy of your comments to BSEE by one of the methods previously listed.

Public Availability of Comments—Before including your address, phone number, email address, or other personal identifying information in your comment, you should be aware that your entire comment—including your personal identifying information—may be made publicly available at any time. In order for BSEE to withhold from disclosure your personal identifying information, you must identify any information contained in your comment submittal that, if released, would constitute a clearly unwarranted invasion of your personal privacy. You must also briefly describe any possible harmful consequence(s) of the disclosure of the information, such as embarrassment, injury, or other harm. While you can ask us in your comment to withhold your personal identifying information from public review, we cannot guarantee that we will be able to do so.

FOR FURTHER INFORMATION CONTACT: For questions, contact Kirk Malstrom, Regulations and Standards Branch, (202) 258-1518, or by email: regs@bsee.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Department is issuing this rule as a direct final rule. Although the Administrative Procedure Act (APA, 5 U.S.C. 551-559) generally requires agencies to engage in notice and comment rulemaking, section 553 of the APA provides an exception when the agency “for good cause finds” that notice and comment are “impracticable, unnecessary, or contrary to the public interest.” Id. § 553(b)(B). The Department has determined that notice and comment are unnecessary because this rule is noncontroversial; of a minor, technical nature; and is unlikely to receive any significant adverse comments. Significant adverse comments are those that oppose the rescission of the rule and raise, alone or in combination, (1) reasons why the rescission of the rule is inappropriate, including challenges to the rescission's underlying premise, or (2) serious unintended consequences of the rescission. A comment recommending an addition to the rule will not be considered significant and adverse unless the comment explains how this direct final rule would be ineffective without the addition.

Executive Summary: This direct final rule (DFR) revises the regulatory provisions in subpart P of 30 CFR part 250 that are inconsistent with other similar operational and equipment requirements of this part. On January 20, 2025, the President issued Executive Order (E.O.) 14154 “Unleashing American Energy,” which rescinded E.O. 13990 “Protecting Public Health and the Environment and Restoring Science to Tackle the Climate Crisis” and directed the removal of regulations that impede the development and use of the Nation's energy and natural resources. In response to E.O. 14154, the Secretary of the Interior (Secretary) issued Secretary's Order (S.O.) 3418, “Unleashing American Energy,” which directs all Assistant Secretaries to “review all agency actions and submit an action plan” that includes steps that “as appropriate, will be taken to suspend, revise, or rescind documents,” to address potential burden to industry.¹

¹ Secretary's Order 3418, Sec. 4. Directive, Feb. 3, 2025.

This DFR revises provisions that, consistent with and as authorized by the Outer Continental Shelf Lands Act (OCSLA), will achieve the objectives of E.O. 14154 and S.O. 3418. At this time, BSEE would streamline the subpart P regulations by:

• Applying other regulations in 30 CFR part 250 to sulphur operations; and

• Rescinding the regulations in §§ 250.1601 through 250.1634 and reserving those sections.

BSEE will continue to evaluate the effectiveness of all BSEE regulations for any necessary and appropriate rulemakings in the future.

Table of Contents

I. Background

A. Statutory and Regulatory Authority and Responsibilities

B. Purpose and Summary of the Rulemaking

II. Section-by-Section Discussion of Proposed Changes

A. § 250.1600 Performance Standard

B. §§ 250.1601-250.1634

III. Procedural Matters

I. Background

A. Statutory and Regulatory Authority and Responsibilities

The Department's authority for this direct final rule is derived from OCSLA, codified at 43 U.S.C. 1331-1356a. OCSLA, enacted in 1953 and substantially revised in 1978, authorizes the Secretary to regulate and administer mineral and oil and gas exploration, development, and production operations on the OCS. The Secretary has delegated authority to perform certain of these functions to BSEE under Secretary's Order 3299.²

² https://www.doi.gov/sites/doi.gov/files/elips/documents/3299a2-establishment_of_the_bureau_of_ocean_energy_management_the_bureau_of_safety_and_environmental_enforcement_and_the_office_of_natural_resources_revenue.pdf.

To carry out its responsibilities, BSEE regulates offshore oil and gas and sulphur operations to enhance the safety of oil and gas and sulphur exploration and development on the OCS, ensure that those operations are safe, and implement advancements in technology. BSEE also conducts onsite inspections to ensure compliance with regulations, lease terms, and approved plans and permits. Detailed information concerning the BSEE-administered regulations and guidance to the offshore oil and gas and sulphur industries may be found on BSEE's website at: https://www.bsee.gov/guidance-and-regulations.

BSEE administers a regulatory program that covers a wide range of OCS facilities and activities that offshore operators ³ perform, including sulphur operations, throughout the OCS. See 30 CFR part 250. This DFR is applicable to the operational activities that involve sulphur exploration, development, and production.

³ The regulations at 30 CFR part 250 generally apply to “a lessee, the owner or holder of operating rights, a designated operator or agent of the lessee(s)” (30 CFR 250.105 (definition of “you”) and “the person actually performing the activity to which the requirement applies” (30 CFR 250.146(c)). For convenience, this preamble will refer to these regulated entities as “operators” unless otherwise indicated.

B. Purpose and Summary of the Rulemaking

On August 29, 2011, the Secretary issued Secretary's Order 3299 2A (S.O. 3299 2A), which announced the division of the former Minerals Management Service (MMS) into three new separate agencies—Office of Natural Resources Revenue (ONRR), Bureau of Ocean Energy Management (BOEM), and Bureau of Safety and Environmental Enforcement (BSEE). Secretary's Order 3299 2A also separated the regulatory responsibilities of MMS and established the authorities and responsibilities of ONRR, BOEM, and BSEE.

On October 18, 2011, the Department published the direct final rule “Reorganization of Title 30: Bureaus of Safety and Environmental Enforcement and Ocean Energy Management.” 76 FR 64462 (October 18, 2011) (2011 final rule). The 2011 final rule assigned administration of the regulations under 30 CFR, chapter II-Minerals Management Service, to BSEE and BOEM based on the authorities and responsibilities established for each agency under S.O. 3299 2A. Accordingly, the 2011 final rule assigned administration of the entire subpart P regulations to BSEE as part of the agency's regulatory authority over safety and environmental enforcement of operations on the OCS.

The Department's subpart P regulations have not been substantially updated since 2011 when the final rule assigned administration of the regulations to the agency. While the subpart P regulations have not been updated, many of the Department's regulations in the other subparts of 30 CFR 250, which also apply to sulphur operations, have been updated to incorporate new processes, technology, and technical standards. Additionally, on January 20, 2025, the President issued E.O. 14154, which rescinded E.O. 13990 and directed the removal of regulations that impose impediments on the development and use of the Nation's energy and natural resources. The accompanying S.O. 3418 instructed DOI to review and revise regulations that, consistent with and as authorized by the OCSLA, will alleviate the potential burden on industry and further promote the objectives of E.O. 14154. Therefore, this direct final rule will remove the vast majority of the regulations in subpart P and instead will reference the applicable regulations in the other subparts of 30 CFR part 250 for the purposes of efficiency and efficacy.

II. Section-by-Section Discussion of Proposed Changes

The Department would revise the following regulations:

Subpart P—Sulphur Operations

A. § 250.1600 Performance Standard

This section of the existing regulations includes the performance standard applicable to operations to discover, develop, and produce sulphur on the OCS. This section requires such operations to be in accordance with a BOEM-approved Exploration Plan or Development and Production Plan, and to be conducted in a manner that protects against harm or damage to life, property, natural resources, and the environment.

Revisions: The Department is revising § 250.1600 by clarifying that the requirements of the section, including a new requirement in new paragraph (a)(2) to comply with the other regulations in 30 CFR part 250, apply to all applicable operations for sulphur exploration, development, and production on the OCS. The Department also amends the section by revising the format from a single paragraph to a bulleted list to increase clarity and readability.

Explanation of proposed revisions: The Department's revision to § 250.1600 would reduce the regulatory burden on operators by simplifying the regulatory compliance process. The revision would align regulatory requirements for sulphur operations in subpart P with the requirements in the other subparts of 30 CFR part 250. BSEE expects that the simplified reporting requirements will alleviate regulatory burdens on operators without any negative impact on safety and environmental protection.

B. §§ 250.1601-250.1634

These sections of the existing regulations represent the remainder of the sections in subpart P and include, among other subjects, regulations pertaining to drilling requirements, well control, pressure testing, permits, blowout prevention, testing, training, and recordkeeping.

Revisions: The Department is revising §§ 250.1601 through 250.1634 by removing the content from the subpart and reserving the section numbers.

Explanation of proposed revisions: The revisions to §§ 250.1601 through 250.1634 removes regulations that are outdated, duplicative of, or inconsistent with similar regulations in the other subparts of 30 CFR part 250, such as regulations for drilling operations (subpart D) and well control (subpart G). The 30 CFR part 250 regulations provide sufficient detail, clarity, and comprehensiveness for operators and necessary oversight authority for BSEE to enable safe, efficient, and productive sulphur operations on the OCS. BSEE expects that the revisions to these sections, in conjunction with the revision to § 250.1600, provides regulatory relief to the industry by eliminating outdated and redundant regulatory requirements. BSEE also anticipates the regulatory changes will have no negative impact on the safety of offshore operations or environmental protection.

III. Procedural Matters

Regulatory Planning and Review (E.O. 12866) and Improving Regulation and Regulatory Review (E.O. 13563)

Executive Order 12866 provides that the Office of Information and Regulatory Affairs (OIRA) in the Office of Management and Budget (OMB) will review all significant rules. OIRA has determined that this direct final rule is not significant.

Executive Order 13563 reaffirms the principles of E.O. 12866, while calling for improvements in the Nation's regulatory system to promote predictability, reduce uncertainty, and use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that agencies must base regulations on the best available science and that the rulemaking process must allow for public participation and an open exchange of ideas. BSEE developed this direct final rule in a manner consistent with these requirements.

Regulatory Flexibility Act

The Regulatory Flexibility Act (RFA, 5 U.S.C. 601-612) requires an agency to prepare a regulatory flexibility analysis for all rules unless the agency certifies that the rule will not have a significant economic impact on a substantial number of small entities. The RFA applies only to rules for which an agency is required to first publish a proposed rule. See 5 U.S.C. 603(a) and 604(a). The RFA does not apply because the Department is not required to publish a notice of proposed rulemaking for this direct final rule.

Congressional Review Act

This direct final rule is not a major rule under the Congressional Review Act, 5 U.S.C. 804(2). Specifically, the direct final rule: (1) will not have an annual effect on the economy of $100 million or more; (2) will not cause a major increase in costs or prices for consumers, individual industries, Federal, State, or local government agencies, or geographic regions; and (3) will not have significant adverse effects on competition, employment, investment, productivity, innovation, or on the ability of United States-based enterprises to compete with foreign-based enterprises in domestic and export markets.

Unfunded Mandates Reform Act of 1995

This direct final rule would not impose an unfunded mandate on State, local, or tribal governments or the private sector of more than $100 million per year. The rule would not have a significant or unique effect on State, local, or tribal governments or the private sector. The rule merely revises the Federal regulations to remove outdated, duplicative, and inconsistent provisions. Therefore, a statement containing the information required by Unfunded Mandates Reform Act (2 U.S.C. 1531 et seq.) is not required.

Takings Implication Assessment (E.O. 12630)

Under the criteria in E.O. 12630, this direct final rule does not have significant takings implications. The rule is not a governmental action capable of interference with constitutionally protected property rights. Therefore, a takings implication assessment is not required.

Federalism (E.O. 13132)

Under the criteria in E.O. 13132, this direct final rule will not have federalism implications. This rule will not substantially and directly affect the relationship between the Federal and State governments. To the extent that State and local governments have a role in OCS activities, this rule will not affect that role. Therefore, a federalism assessment is not required.

Civil Justice Reform (E.O. 12988)

This direct final rule complies with the requirements of E.O. 12988. Specifically, this rule:

(1) Meets the criteria of section 3(a) requiring that all regulations be reviewed to eliminate errors and ambiguity and be written to minimize litigation; and

(2) Meets the criteria of section 3(b)(2) requiring that all regulations be written in clear language and contain clear legal standards.

Consultation With Indian Tribes (E.O. 13175)

BSEE strives to strengthen its government-to-government relationships with federally recognized Indian Tribes through a commitment to consultation with the Tribes and recognition of their right to self-governance and Tribal sovereignty. We are also respectful of our responsibilities for consultation with Alaska Native Claims Settlement Act (ANCSA) Corporations and the Native Hawaiian Community. BSEE is committed to compliance with E.O. 13175, “Consultation and Coordination with Indian Tribal Governments” (dated November 6, 2000), DOI's Policy on Consultation with Indian Tribes, Policy on Consultation with Alaska Native Claims Settlement Act Corporations, and Policy on Consultation with the Native Hawaiian Community (512 Departmental Manual 4, dated November 30, 2022, 512 Departmental Manual 6, dated November 30, 2022, and 513 Departmental Manual 1, dated January 16, 2025, respectively), and DOI's Procedures for Consultation with Indian Tribes, Procedures for Consultation with Alaska Native Claims Settlement Act Corporations, and Procedures for Consultation with the Native Hawaiian Community (512 Departmental Manual 5, dated November 30, 2022, Departmental Manual 7, dated November 30, 2022, and 513 Departmental Manual 2, dated January 16, 2025, respectively). BSEE evaluated this direct final rule under E.O. 13175 and the Department's consultation policies and procedures and determined that it has no substantial direct effects on federally recognized Indian Tribes, ANCSA corporations, or the Native Hawaiian Community and that consultation under the Department's consultation policies is not required.

Paperwork Reduction Act (PRA) of 1995

This direct final rule does not impose any new information collection burdens under the Paperwork Reduction Act. OMB previously approved the information collection activities contained in the existing regulations and assigned OMB control number 1014-0006. This rule rescinds the majority of the provisions in subpart P and, as such, eliminates the burdens associated with OMB Control Number 1014-0006 (897 hours). BSEE will be submitting a request to OMB to discontinue this control number.

National Environmental Policy Act of 1969 (NEPA)

This direct final rule does not constitute a major Federal action significantly affecting the quality of the human environment. A detailed statement under the National Environmental Policy Act (NEPA, 42 U.S.C. 4321 et seq.) is not required because this rule is covered by a categorical exclusion applicable to regulatory functions “that are of an administrative, financial, legal, technical, or procedural nature.” 43 CFR 46.210(i). In addition, BSEE has determined that this rule does not involve any of the extraordinary circumstances listed in 43 CFR 46.215 that would require further analysis under NEPA.

Data Quality Act

In developing this direct final rule, we did not conduct or use a study, experiment, or survey requiring peer review under the Data Quality Act (Pub. L. 106-554, app. C, sec. 515, 114 Stat. 2763, 2763A-153-154).

Effects on the Nation's Energy Supply (E.O. 13211)

This direct final rule is not a significant energy action under the definition in E.O. 13211. The rule is not a significant regulatory action under E.O. 12866, and it is not likely to have a significant adverse effect on the supply, distribution, or use of energy. Therefore, a statement of energy effects is not required.

Clarity of This Regulation

We are required by E.O. 12866, E.O. 12988, and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in the ADDRESSES section. To better help us revise the rule, your comments should be as specific as possible. For example, you should tell us the numbers of the sections or paragraphs that you find unclear, which sections or sentences are too long, or the sections where you feel lists or tables would be useful.

Severability

If a court holds any section or paragraph of this rulemaking or their applicability to any person or circumstance invalid, the remainder of this rulemaking and their applicability to other persons or circumstances will not be affected.

List of Subjects in 30 CFR Part 250

Administrative practice and procedure, Continental shelf, Environmental impact statements, Environmental protection, Government contracts, Investigations, Mineral resources, Oil and gas exploration, Penalties, Pipelines, Outer Continental Shelf—mineral resources, Outer Continental Shelf—rights-of-way, Reporting and recordkeeping requirements, Sulphur operations.

Adam G. Seuss,
Acting Assistant Secretary, Land and Minerals Management.

For the reasons stated in the preamble, the Bureau of Safety and Environmental Enforcement (BSEE) amends 30 CFR part 250 as follows:

PART 250—OIL AND GAS AND SULFUR OPERATIONS IN THE OUTER CONTINENTAL SHELF

1. The authority citation for part 250 continues to read as follows:

Authority: 30 U.S.C. 1751, 31 U.S.C. 9701, 33 U.S.C. 1321(j)(1)(C), 43 U.S.C. 1334.

2. Revise § 250.1600 to read as follows:

§ 250.1600 Performance standard.

(a) All operations for sulphur exploration, development, and production on the OCS must comply with:

(1) A BOEM-approved Exploration Plan or Development and Production Plan;

(2) The applicable regulations in 30 CFR part 250; and

(3) All applicable laws, regulations, and conditions of approval.

(b) You must conduct such operations in a manner that protects against harm or damage to life (including fish and other aquatic life), property, natural resources of the OCS including any mineral deposits (in areas leased or not leased), the National security or defense, and the marine, coastal, or human environment.

§§ 250.1601-250.1634 [Removed and reserved]

3. Remove and reserve §§ 250.1601-250.1634:

[FR Doc. 2025-14618 Filed 7-31-25; 8:45 am]

BILLING CODE 4310-VH-P